FEDERAL EMERGENCY MANAGEMENT AGENCY

Open Meeting, Advisory Committee (Expert Panel on Cost Estimating) for the Public Assistance Program

AGENCY: Federal Emergency Management Agency (FEMA).

ACTION: Notice of open meeting.

SUMMARY: In accordance with section 10(a)(2) of the Federal Advisory Committee Act (Public Law 92-463, 5 U.S.C. App.), announcement is made of the following committee meeting:

Name: Advisory Committee (Expert Panel on Cost Estimating) for the Public Assistance Program.

Date of Meeting: June 26-28, 2001.

Place: Crystal City Marriott, 1999 Jefferson Davis Highway, Salons B and C, Arlington, VA 22202.

Time: June 26: 9 a.m.-5 p.m., June 27: 8 a.m.-5 p.m., June 28: 8 a.m.-5 p.m.

Proposed Agenda: The Panel will be provided with: (1) An overview of the Stafford Act (P.L. 93-288) and the provision of the Disaster Mitigation Act of 2000 (P.L. 106-390) that directs FEMA to establish a methodology, consistent with industry practices, for estimating the cost to repair, restore or replace eligible public facilities that are damaged during a major disaster. (2) A briefing on the Grant Acceleration Program that FEMA employed during the Northridge Earthquake. (3) A briefing on the Cost Estimating Format for Large Projects that FEMA has used since the inception of the redesigned Public Assistance Program. Discussion will also be held regarding the Public Assistance Program and cost estimating issues for roads and bridges, water control facilities, buildings, utility systems, and recreational facilities. Finally, the Panel will consider current and future requirements for making recommendations on both a cost estimating methodology and reasonable floor and ceiling percentages related to the estimated cost by the first quarter of calendar year 2002.

The meeting will be open to the public, with seats available on a first-come, first-served basis. All members of the public interested in attending should contact James D. Duffer, at 202-646-3532.

Minutes of the meeting will be prepared and available for public viewing at the Federal Emergency Management Agency (FEMA), Infrastructure Division, Response and Recovery Directorate, 500 C Street, SW., Washington, DC 20472 and posted on FEMA's Web Page located at http://www.fema.gov/r-n-r/pa. Copies of the meeting minutes will be available upon request 90 days after the meeting.

Robert J. Adamcik,
Deputy Associate Director, Response & Recovery Directorate.

[FR Doc. 01-13268 Filed 5-24-01; 8:45 am]

BILLING CODE 6718-01-P